DEPARTMENT OF ENERGY

10 CFR Part 460

Draft Environmental Assessment for Notice of Proposed Rulemaking, “Energy Conservation Standards for Manufactured Housing” With Request for Information on Impacts to Indoor Air Quality

AGENCY: Office of Energy Efficiency and Renewable Energy, U.S. Department of Energy.

ACTION: Notice of availability; request for public comment, and request for information.

SUMMARY: Section 413 of the Energy Independence and Security Act of 2007 (EISA) directs the U.S. Department of Energy (DOE) to establish energy conservation standards for manufactured housing. Section 413 further directs DOE to base its energy conservation standards on the most recent version of the International Energy Conservation Code (IECC) and any supplements to that document, except where DOE finds that the IECC is not cost effective or where a more stringent standard would be more cost effective, based on the impact of the IECC on the purchase price of manufactured housing and on total lifecycle construction and operating costs. On June 17, 2016, DOE published a notice of proposed rulemaking in the Federal Register pertaining to energy efficiency for manufactured housing.

Pursuant to the National Environmental Policy Act (NEPA) of 1969, DOE Office of Energy Efficiency and Renewable Energy (EERE) has prepared a draft environmental assessment (EA) to evaluate the environmental impacts of this proposed action. DOE is seeking public comment on the environmental issues addressed in the EA. In conjunction with issuance of this draft EA for public review and comment, DOE is issuing a request for information that will help it analyze potential impacts on indoor air quality (IAQ) from the proposed energy conservation standards, in particular sealing manufactured homes tighter.

DATES: Comments regarding this draft EA and/or information on IAQ must be received on or before August 15, 2016.

ADDRESSES: Written comments should be sent to Roak Parker at U.S. Department of Energy, 15013 Denver West Parkway, Golden, CO 80401, or by email at RulemakingEAs@ee.doe.gov.

FOR FURTHER INFORMATION CONTACT: Requests for additional information or copies of the draft environmental assessment should be directed to Roak Parker at RulemakingEAs@ee.doe.gov or by telephone at (240) 562-1645. The draft environmental assessment also is available for viewing in the Golden Public Reading Room at: www.energy.gov/node/1840021.

SUPPLEMENTARY INFORMATION: DOE has published a notice of proposed rulemaking in the Federal Register pertaining to energy efficiency for manufactured housing. 81 FR 39756 (June 17, 2016). Pursuant to the National Environmental Policy Act (NEPA) of 1969 (42 U.S.C. 4321 et seq.), DOE EERE has prepared a draft environmental assessment (EA) to evaluate the environmental impacts of this proposed action. DOE is seeking public comment on the environmental issues addressed in the EA. In conjunction with issuance of this draft EA for public review and comment, DOE is issuing a request for information that will help it analyze potential impacts on indoor air quality (IAQ) from the proposed energy conservation standards, in particular sealing manufactured homes tighter.

Statutory Authority: National Environmental Policy Act (NEPA) (42 U.S.C. 4321 et seq.).

Issued in Golden, CO, on June 21, 2016.
Robin L. Sweeney,
Director, Environment, Safety and Health Office, Office of Energy Efficiency and Renewable Energy.

[FR Doc. 2016-15328 Filed 6-29-16; 8:45 am]

BILLING CODE 6450-01-P